DEPARTMENT OF ENERGY

Federal Energy Regulatory Commission

[Docket No. CP02-25-001]

Copiah Storage, LLC; Notice of Application

April 9, 2007.

Take notice that on March 29, 2007, as supplemented on April 5, 2007, Copiah Storage, LLC (Copiah), 5400 Westheimer Court, Houston, Texas 77056-5310, filed an application in Docket No. CP02-25-001, pursuant to section 7(c) of the Natural Gas Act and the Commission's regulations, an amendment to the certificate of public convenience and necessity issued to Copiah on June 13, 2002 in Docket No. CP02-25-000. Copiah requests authorization to develop two new salt dome storage caverns totaling approximately 15.5 Bcf working gas capacity; construct a new 32,000 hp compressor station; construct freshwater supply wells and brine water disposal wells; construct approximately 15 miles of 24-inch diameter header which will connect the Copiah facilities to Texas Eastern Transmission, LP's pipeline system and to the proposed Southeast Supply Header pipeline; implement the proposed tariff; and continue the previous certificate authorization to charge market-based rates for storage and hub services. The expanded facilities will create a maximum total new storage capacity of 15.5 Bcf with a maximum additional daily withdrawal rate of 1.3 MMcf/d; all as more fully set forth in the application which is on file with the Commission and open to public inspection. Copiah requested that the Commission issue an order granting an amendment to its certificate of public convenience and necessity by December 31, 2008 with authorization to construct through 2014.

These filings are available for review at the Commission's Washington, DC offices or may be viewed on the Commission's Web site at http://www.ferc.gov/ using the “e-Library” link. Enter the docket number, excluding the last three digits, in the docket number field to access the document. For assistance, please contact FERC Online Support at ferconlinesupport@ferc.gov or telephone: 202-502-6652; Toll-free: 1-866-208-3676; or for TTY, contact (202) 502-8659.

Any questions regarding this application should be directed to Ashley Leder, Director, Certificates and Reporting, Copiah Storage, LLC, 5400 Westheimer Court, Houston, Texas 77251 at (713) 627-5760 or fax (713) 627-5947.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all Federal authorizations within 90 days of the date of issuance of the Commission staff's FEIS or EA.

There are two ways to become involved in the Commission's review of this Project. First, any person wishing to obtain legal status by becoming a party to the proceeding for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this project and/or associated pipeline. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see 18 CFR 285.2001(a)(1)(iii) and the instructions on the Commission's Web site under the “e-filing” link. The Commission strongly encourages electronic filings.

Comment Date: April 30, 2007.

Kimberly D. Bose,
Secretary.

[FR Doc. E7-7145 Filed 4-13-07; 8:45 am]

BILLING CODE 6717-01-P